DEPARTMENT OF STATE

[Public Notice: 8526]

U.S. Advisory Commission on Public Diplomacy; Notice of Meeting

DATES: Time and Date: Monday, December 2, 2013, 2 p.m.-4 p.m.

Place: Capitol Visitor's Center, Room SVC203-02, First St. SE., Washington, DC 20515

Status: Commission Meeting—Open to the Public.

The U.S. Advisory Commission on Public Diplomacy will hold a public meeting from 2:00 p.m. to 4:00 p.m. on Monday, December 2, 2013 in Room SVC203-02 of the Capitol Visitor's Center at First St. SE., Washington, DC 20515.

The meeting's topic will be on “The State of Public Diplomacy in 2014” and will include representatives from the audit and research community to review the main challenges and opportunities for public diplomacy in the coming year. The Commission will also introduce its work plan for 2014.

This meeting is open to the public, Members and staff of Congress, the State Department, Defense Department, the media, and other governmental and non-governmental organizations. To attend or request further information, including any requests for reasonable accommodation, contact Katherine Brown at BrownKA4@state.gov by 5 p.m. on Wednesday, November 27, 2013. Please arrive for the meeting by 1:45 p.m. to allow for a prompt meeting start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. William Hybl of Colorado, Chairman; Ambassador Lyndon Olson of Texas, Vice Chairman; Mr. Sim Farar of California, Vice Chairman; Ambassador Penne Korth-Peacock of Texas; Ms. Lezlee Westine of Virginia; and Anne Terman Wedner of Illinois. One seat on the Commission is currently vacant.

The following individual has been nominated to the Commission but awaits Senate confirmation as of this writing: Alfredo Balsera of Florida.

This announcement might appear in the Federal Register less than 15 days prior to the meeting. The Department of State finds an exceptional circumstance in that this advisory committee meeting must be held on December 2, 2013, to accommodate the schedules of the Commission members and to introduce the 2014 work plan prior to the start of the holiday season, when travel arrangements and scheduling might be challenging.

Dated: November 14, 2013.
Katherine Brown,
Executive Director, Department of State.

[FR Doc. 2013-27816 Filed 11-18-13; 8:45 am]

BILLING CODE 4710-11-P